DEPARTMENT OF ENERGY

Federal Energy Regulatory Commission

Combined Notice of Filings #1

Take notice that the Commission received the following electric corporate filings:

Docket Numbers: EC17-192-000.

Applicants: Pattern Energy Group LP, Pattern Energy Group Inc., El Cabo Wind LLC.

Description: Application for Authorization for Disposition of Jurisdictional Facilities and Requests for Waivers, Confidential Treatment, and Expedited Consideration of Pattern Energy Group LP, et al.

Filed Date: 9/26/17.

Accession Number: 20170926-5129.

Comments Due: 5 p.m. ET 10/17/17.

Docket Numbers: EC17-193-000.

Applicants: RE Astoria LLC, RE Astoria 2 LLC, RE Barren Ridge 1 LLC.

Description: Application for Authorization under Section 203 of the Federal Power Act and Request for Waivers, Confidential Treatment, Expedited Action and Shortened Comment Period of RE Astoria LLC, et al.

Filed Date: 9/27/17.

Accession Number: 20170927-5062.

Comments Due: 5 p.m. ET 10/18/17.

Take notice that the Commission received the following exempt wholesale generator filings:

Docket Numbers: EG17-157-000.

Applicants: SP Cactus Flats Wind Energy, LLC.

Description: Self-Certification of EG of SP Cactus Flats Wind Energy, LLC.

Filed Date: 9/27/17.

Accession Number: 20170927-5071.

Comments Due: 5 p.m. ET 10/18/17.

Take notice that the Commission received the following electric rate filings:

Docket Numbers: ER17-2549-000.

Applicants: Alabama Power Company.

Description: § 205(d) Rate Filing: TVA 2017 NITSA and NOA Filing to be effective 9/1/2017.

Filed Date: 9/27/17.

Accession Number: 20170927-5035.

Comments Due: 5 p.m. ET 10/18/17.

Docket Numbers: ER17-2550-000.

Applicants: PJM Interconnection, L.L.C.

Description: § 205(d) Rate Filing: PJM submits Six Cost Responsibility Agreements re: DP&L Transfer to AES Ohio Gen to be effective 8/31/2017.

Filed Date: 9/27/17.

Accession Number: 20170927-5072.

Comments Due: 5 p.m. ET 10/18/17.

Docket Numbers: ER17-2551-000.

Applicants: American Transmission Systems, Incorporated, PJM Interconnection, L.L.C.

Description: § 205(d) Rate Filing: ATSI submits Engineering and Construction Services Agreement SA No. 4713 to be effective 11/27/2017.

Filed Date: 9/27/17.

Accession Number: 20170927-5075.

Comments Due: 5 p.m. ET 10/18/17.

Docket Numbers: ER17-2552-000.

Applicants: Midcontinent Independent System Operator, Inc.

Description: § 205(d) Rate Filing: 2017-09-28_SA 3044 Statcom on ATC MPFCA to be effective 11/27/2017.

Filed Date: 9/27/17.

Accession Number: 20170927-5085.

Comments Due: 5 p.m. ET 10/18/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 27, 2017.
Nathaniel J. Davis, Sr.,
Deputy Secretary.

[FR Doc. 2017-21296 Filed 10-3-17; 8:45 am]

BILLING CODE 6717-01-P